DEPARTMENT OF AGRICULTURE

Agricultural Marketing Service

[Doc. No. AMS-LPS-15-0067]

Mandatory Country of Origin Labeling of Covered Commodities: Notice of Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension and revision to the currently approved information collection of the Mandatory Country of Origin Labeling (COOL) of Covered Commodities.

DATES: Comments must be received by May 2, 2016.

ADDRESSES: Comments should be submitted electronically at http://www.regulations.gov. Comments may also be submitted to Julie Henderson, Director, COOL Division, Livestock, Poultry, and Seed Program, Agricultural Marketing Service, U.S. Department of Agriculture (USDA); STOP 0216; 1400 Independence Avenue SW.; Room 2620-S; Washington, DC 20250-0216; or email to julie.henderson@ams.usda.gov. All comments should reference docket number AMS-LPS-15-0067 and note the date and page number of this issue of the Federal Register.

Submitted comments will be available for public inspection at http://www.regulations.gov or at the above address during regular business hours. Comments submitted in response to this Notice will be included in the records and will be made available to the public. Please be advised that the identity of the individuals or entities submitting the comments will be made public on the Internet at the above address.

FOR FURTHER INFORMATION CONTACT: Julie Henderson, Director, COOL Division, AMS, USDA, by telephone at (202) 720-4486, or email at Julie.Henderson@ams.usda.gov.

SUPPLEMENTARY INFORMATION: Title: Mandatory Country of Origin Labeling of Covered Commodities.

OMB Number: 0581-0250.

Expiration Date of Approval: May 31, 2016.

Type of Request: Request for Revision of a Currently Approved Information Collection.

Abstract: The farm Security and Rural Investment Act of 2002 (2002 Farm Bill) (Pub. L. 107-171), the 2002 Supplemental Appropriations Act (2002 Appropriations) (Pub. L. 107-206), and the Food, Conservation and Energy Act of 2008 (2008 Farm Bill) (Pub. L. 110-234) amended the Agricultural Marketing Act of 1946 (Act) (7 U.S.C. 1621 et seq.) to require retailers to notify their customers of the country of origin covered commodities. Covered commodities included muscle cuts of beef (including veal), lamb, chicken, goat, and pork; ground beef, ground lamb, ground chicken, ground goat, and ground pork; wild and farm-raised fish and shellfish; perishable agricultural commodities; macadamia nuts; pecans; ginseng; and peanuts. AMS published A final rule for all covered commodities on January 15, 2009 (74 FR 2658), which took effect on March 16, 2009. On May 23, 2013, AMS issued a final rule to amend the country of origin labeling provisions for muscle cuts covered commodities (78 FR 31367). The Consolidated Appropriations Act, 2016 (Pub. L. 114-113) amended the Act to remove mandatory COOL requirements for muscle cut beef and pork. And ground beef and ground pork. The Agency is issuing a final rule to conform with amendments to the Act contained in the Consolidated Appropriations Act, 2016, which appears in this edition of the Federal Register. The estimated number of respondents and estimated total annual burden for this information collection is being revised to reflect these amendments.

Individuals who supply covered commodities, whether directly to retailers or indirectly through other participants in the marketing chain, are required to establish and maintain country of origin and, if applicable, method of production information for the covered commodities and supply this information to retailers. As a result producers, handlers, manufacturers, wholesalers, importers and retailers of covered commodities are affected.

This public reporting burden is necessary to ensure conveyance and accuracy of country of origin and method of production declarations relied upon at the point of sale at retail. The public reporting burden also assures that all parties involved in supplying covered commodities to retail stores maintain and convey accurate information as required.

Estimate of Burden: Public reporting burden for recordkeeping storage and maintenance is estimated to average 33 hours per year per individual.

Respondents: Retailers, wholesalers, producers, handlers, and importers.

Estimated Number of Respondents: 569,835.

Estimated Total Annual Responses: 569,835.

Estimated Number of Responses per Respondent: 33.

Estimated Total Annual Burden on Respondents: 18,708,072.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: February 26, 2016.
Elanor Starmer,
Acting Administrator, Agricultural Marketing Service.

[FR Doc. 2016-04611 Filed 3-1-16; 8:45 am]

BILLING CODE 3410-02-P